Title 3—

The President

Notice of March 30, 2007

Notice of Intention To Enter Into a Free Trade Agreement With Panama

Consistent with section 2105(a)(1)(A) of the Trade Act of 2002, I have notified the Congress of my intention to enter into a free trade agreement with the Republic of Panama.

Consistent with section 2105(a)(1)(A) of that Act, this notice shall be published in the Federal Register.

THE WHITE HOUSE,

March 30, 2007.

[FR Doc. 07-1647

Filed 3-30-07; 11:26 am]

Billing code 3195-01-P